DEPARTMENT OF TRANSPORTATION

Federal Aviation Administration

14 CFR Part 39

[Docket No. FAA-2008-0489; Directorate Identifier 2007-SW-59-AD; Amendment 39-15507; AD 2008-10-01]

RIN 2120-AA64

Airworthiness Directives; Eurocopter France Model EC120B Helicopters

AGENCY: Federal Aviation Administration (FAA), Department of Transportation (DOT).

ACTION: Final rule; request for comments.

SUMMARY: We are adopting a new airworthiness directive (AD) for Eurocopter France Model EC120B helicopters. This AD results from mandatory continuing airworthiness information (MCAI) originated by an aviation authority of another country to identify and correct an unsafe condition on a helicopter. The aviation authority of France, with which we have a bilateral agreement, states in the MCAI:

This Airworthiness Directive (AD) follows upon the discovery of a batch of spherical thrust bearings which prove to be unfit for flight.

This AD requires actions that are intended to address the unsafe condition caused by the manufacture of a batch of spherical thrust bearings that are not airworthy because they were not manufactured in accordance with an approved type design. Failure of a spherical thrust bearing during flight could cause the main rotor (M/R) system to separate from the helicopter, which would be catastrophic.

DATES: This AD becomes effective on May 21, 2008.

We must receive comments on this AD by July 7, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, Texas 75053-4005, telephone (972) 641-3460, fax (972) 641-3527.

Examining the AD Docket: You may examine the AD docket on the Internet at http://www.regulations.gov, or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Gary Roach, Aviation Safety Engineer, FAA, Rotorcraft Directorate, Regulations and Guidance Group, Fort Worth, Texas 76193-0111, telephone (817) 222-5130, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The Direction generale de l'aviation civile France (DGAC), the Airworthiness Authority of the State of Design, has issued an MCAI for the affected helicopters in the form of DGAC Airworthiness Directive No. F-2006-040, dated February 15, 2006 (referred to after this as “the MCAI”), to correct an unsafe condition for this French-certificated helicopter. The MCAI states:

This Airworthiness Directive (AD) follows upon the discovery of a batch of spherical thrust bearings which prove to be unfit for flight.

These are critical parts that retain the main rotor to the M/R hub and flexes to allow the M/R blades to pitch. We were previously informed by the manufacturer that all affected spherical thrust bearings had been recovered by Eurocopter France. However, we recently learned that some affected spherical thrust bearings have not been recovered and may still be installed on some helicopters.

You may obtain further information by examining the MCAI and service information in the AD docket.

Relevant Service Information

Eurocopter has issued Eurocopter Alert Telex No. 04A006, dated January 27, 2006. The actions described in the MCAI are intended to correct the same unsafe condition as that identified in the alert telex.

FAA's Determination and Requirements of This AD

These helicopters have been approved by the aviation authority of France, and are approved for operation in the United States. Pursuant to our bilateral agreement with France, the State of Design, we have been notified of the unsafe condition described in the MCAI. We are issuing this AD because we evaluated all pertinent information and determined the unsafe condition exists and is likely to exist or develop on other helicopters of the same type design.

Differences Between the AD and the MCAI

We have reviewed the MCAI and agree with it. Therefore, there are no differences.

FAA's Determination of the Effective Date

An unsafe condition exists that requires the immediate adoption of this AD. The FAA has found that the risk to the flying public justifies waiving notice and comment prior to adoption of this rule because we were previously informed by the manufacturer that all affected spherical thrust bearings had been recovered by Eurocopter France. However, we recently learned that some affected spherical thrust bearings have not been recovered and may still be installed on some helicopters. Failure of a spherical thrust bearing during flight could cause the M/R system to separate from the helicopter, which would be catastrophic. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0489; Directorate Identifier 2007-SW-59-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Cost of Compliance

We estimate that this AD will affect about 96 helicopters of U.S. Registry. However, the cost of the inspection to determine if one of the affected spherical thrust bearings is installed is negligible. For affected helicopters, we estimate that it will take about 4 work-hours per helicopter to remove and replace a spherical thrust bearing. The average labor rate is $80 per work-hour. Required parts will cost about $4,500 per helicopter. Based on these figures, we estimate the cost of this AD on U.S. operators to be $19,280 for the entire fleet, assuming that the 4 spherical thrust bearings are replaced, or $4,820 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-10-01 Eurocopter France: Amendment 39-15507. Docket No. FAA-2008-0489; Directorate Identifier 2007-SW-59-AD.

Effective Date

(a) This airworthiness directive (AD) becomes effective on May 21, 2008.

Other Affected ADs

(b) None.

Applicability

(c) This AD applies to Model EC120B helicopters, with spherical thrust bearings, part number 7050A3622036, serial number LK0130, LK0142, LK0155, and LK0158, installed, certificated in any category.

Reason

(d) The mandatory continued airworthiness information (MCAI) states:

This Airworthiness Directive (AD) follows upon the discovery of a batch of spherical thrust bearings which prove to be unfit for flight.

This AD requires actions that are intended to address the unsafe condition caused by the manufacture of a batch of spherical thrust bearings that are not airworthy because they were not manufactured in accordance with approved type design. Failure of a spherical thrust bearing during flight could cause the main rotor (M/R) system to separate from the helicopter, which would be catastrophic.

Actions and Compliance

(e) Before further flight, remove any spherical thrust bearing, part number 7050A3622036, serial numbers LK0130, LK0142, LK0155, or LK0158, and replace it with an airworthy spherical thrust bearing.

Differences Between the FAA AD and the MCAI

(f) None.

Subject

(g) Air Transport Association of America (ATA) Code 6220, Main Rotor Hub.

Other FAA AD Provisions

(h) The following information also applies to this AD:

(1) Alternative Methods of Compliance (AMOCs): The Manager, Safety Management Group, Rotorcraft Directorate, FAA, has the authority to approve AMOCs for this AD, if requested using the procedures found in 14 CFR 39.19. Send information to ATTN: Gary Roach, Aviation Safety Engineer, FAA, Rotorcraft Directorate, Regulations and Guidance Group, Fort Worth, Texas 76193-0111, telephone (817) 222-5130, fax (817) 222-5961.

(2) Airworthy Product: Use only FAA-approved corrective actions. Corrective actions are considered FAA-approved if they are approved by the State of Design Authority (or their delegated agent) if the State of Design has an appropriate bilateral agreement with the United States. You are required to ensure the helicopter is airworthy before it is returned to service.

(3) Reporting Requirements: For any reporting requirement in this AD, under the provisions of the Paperwork Reduction Act, the Office of Management and Budget (OMB) has approved the information collection requirements and has assigned OMB Control Number 2120-0056.

Related Information

(i) Mandatory Continuing Airworthiness Information Direction generale de l'aviation civile Airworthiness Directive No. F-2006-040, dated February 15, 2006, contains related information.

Issued in Fort Worth, Texas, on April 23, 2008.
David A. Downey,
Manager, Rotorcraft Directorate, Aircraft Certification Service.

[FR Doc. E8-9799 Filed 5-5-08; 8:45 am]

BILLING CODE 4910-13-P